DEPARTMENT OF LABOR

Employment and Training Administration

Comment Request for Information Collection for a Youthful Offender Grants Management Information System, New Collection

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data for a proposed management information system for Youthful Offender Grants.

DATES: Written comments must be submitted to the office listed in the addresses section below on or before June 10, 2013.

ADDRESSES: Submit written comments to Richard Morris, Division of Youth Services, Reintegration of Ex-Offenders, Room N-4511, Employment and Training Administration, U.S. Department of Labor, 200 Constitution Avenue NW., Washington, DC 20210. Telephone number: 202-693-3603 (this is not a toll-free number). Individuals with hearing or speech impairments may access the telephone number above via TTY by calling the toll-free Federal Information Relay Service at 1-877-889-5627 (TTY/TDD). Fax: 202-693-2764. Email: morris.richard@dol.gov. A copy of the proposed Information Collection Request (ICR) can be obtained by contacting the office listed above.

SUPPLEMENTARY INFORMATION:

I. Background

Each year, the Department of Labor/Employment and Training Administration is appropriated funds for youthful offender demonstration projects. The Department of Labor uses these funds for a variety of multi-site demonstrations aimed at developing model programs for serving young offenders. The Department expects over the next few years to award 28 new Youthful Offender grants in various sets of demonstrations each year for two years of operation and up to one year of follow-up services and post-placement data collection. In any given year this will result in 28 grants in their first year of operation, 28 grants in their second year of operation, and 28 grants providing follow-up services and tracking post-placement outcomes, for a total of 84 grants collecting data each year.

This data collection request is to permit the Department of Labor to implement a management information system for these various sets of grantees. ETA will be collecting data from these grantees on participant characteristics, services provided, and participant outcomes. This request establishes a reporting and recordkeeping system for a minimum level of information collection that is necessary to comply with Equal Opportunity requirements, to hold Youthful Offender grantees appropriately accountable for the Federal funds they receive, including performance measures, and to allow the Department to fulfill its oversight and management responsibilities.

II. Review Focus

The Department is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New Collection.

Title: Youthful Offender Grants Management Information System.

OMB Number: 1205-0NEW.

Affected Public: State and Local Government Agencies, Faith-Based and Community-Based Organizations.

Total Annual Burden Cost for Respondents: $0.

Data collection activity | Number of respondents (grantees) | Frequency | Total responses | Average time per response | Burden hours
Participant Record | 84 | Continual | 12,000 | 1.8 | 21,600
Performance Report | 84 | Quarterly | 336 | 30 | 10,080
Recidivism Report | 84 | Annual | 12,000 | .5 | 6,000
Total | 84 |  | 24,336 | 1.55 | 37,600

Comments submitted in response to this comment request will be summarized and/or included in the request for OMB approval of the ICR; they will also become a matter of public record.

Signed at Washington, DC, this 27th day of March 2013.
Jane Oates,
Assistant Secretary for Employment and Training, Labor.

[FR Doc. 2013-08435 Filed 4-10-13; 8:45 am]

BILLING CODE 4510-FT-P